DEPARTMENT OF ENERGY

Federal Energy Regulatory Commission

Combined Notice of Filings #1

Take notice that the Commission received the following exempt wholesale generator filings:

Docket Numbers: EG21-206-000.

Applicants: Avangrid Renewables, LLC.

Description: Self-Certification of WHole Sale Generator Status of Avangrid Renewables, LLC.

Filed Date: 7/27/21.

Accession Number: 20210727-5091.

Comments Due: 5 p.m. ET 8/17/21.

Docket Numbers: EG21-207-000.

Applicants: Dichotomy Power Maine LLC.

Description: Notice of Self-Certification of Exempt Wholesale Generator of Dichotomy Power Maine LLC.

Filed Date: 7/27/21.

Accession Number: 20210727-5138.

Comments Due: 5 p.m. ET 8/17/21.

Take notice that the Commission received the following electric rate filings:

Docket Numbers: ER10-1910-021.

Applicants: Duquesne Power, LLC, Duquesne Light Company.

Description: Supplement to July 7, 2021 Notice of Change in Status of Duquesne Light Company.

Filed Date: 7/26/21.

Accession Number: 20210726-5238.

Comments Due: 5 p.m. ET 8/16/21.

Docket Numbers: ER17-2341-005.

Applicants: CA Flats Solar 130, LLC.

Description: Notice of Non-Material Change in Status of CA Flats Solar 130, LLC.

Filed Date: 7/22/21.

Accession Number: 20210722-5245.

Comments Due: 5 p.m. ET 8/12/21.

Docket Numbers: ER21-1790-002.

Applicants: California Independent System Operator Corporation.

Description: Compliance filing: 2021-07-26 Load, Exports & Wheeling—Compliance Filing to be effective 7/30/2021.

Filed Date: 7/26/21.

Accession Number: 20210726-5148.

Comments Due: 5 p.m. ET 8/16/21.

Docket Numbers: ER21-2109-000.

Applicants: Wheatridge Solar Energy Center, LLC.

Description: Supplement to June 9, 2021 Wheatridge Solar Energy Center, LLC tariff filing.

Filed Date: 7/23/21.

Accession Number: 20210723-5212.

Comments Due: 5 p.m. ET 8/2/21.

Docket Numbers: ER21-2500-000.

Applicants: Panther Creek Power Operating, LLC.

Description: Request for Limited Waiver of Panther Creek Power Operating, LLC.

Filed Date: 7/22/21.

Accession Number: 20210722-5243.

Comments Due: 5 p.m. ET 8/12/21.

Docket Numbers: ER21-2509-000.

Applicants: ISO New England Inc., Cross-Sound Cable Company, LLC.

Description: Compliance filing: ISO-NE and Cross Sound Cable; Schedule 18 Revisions to be effective 12/31/9998.

Filed Date: 7/26/21.

Accession Number: 20210726-5159.

Comments Due: 5 p.m. ET 8/16/21.

Docket Numbers: ER21-2510-000.

Applicants: Aquamarine Westside, LLC.

Description: Baseline eTariff Filing: Application for MBR Authorization and Requests for Certain Waivers, et al. to be effective 7/27/2021.

Filed Date: 7/26/21.

Accession Number: 20210726-5155.

Comments Due: 5 p.m. ET 8/16/21.

Docket Numbers: ER21-2511-000.

Applicants: Aquamarine Lessee, LLC.

Description: Baseline eTariff Filing: Application for MBR Authorization and Requests for Certain Waivers, et al. to be effective 7/27/2021.

Filed Date: 7/26/21.

Accession Number: 20210726-5157.

Comments Due: 5 p.m. ET 8/16/21.

Docket Numbers: ER21-2512-000.

Applicants: PJM Interconnection, L.L.C.

Description: § 205(d) Rate Filing: Amendment to ISA, Service Agreement No. 3324; Queue No. AB1-033 (consent) to be effective 10/13/2017.

Filed Date: 7/27/21.

Accession Number: 20210727-5013.

Comments Due: 5 p.m. ET 8/17/21.

Docket Numbers: ER21-2513-000.

Applicants: Golden Spread Electric Cooperative, Inc.

Description: Compliance filing: Order No. 676-I Compliance and Waiver to be effective 12/31/9998.

Filed Date: 7/27/21.

Accession Number: 20210727-5054.

Comments Due: 5 p.m. ET 8/17/21.

Docket Numbers: ER21-2514-000.

Applicants: Public Service Company of New Mexico.

Description: Compliance filing: PNM's Compliance Filing with Order No. 676-I to be effective 10/27/2021.

Filed Date: 7/27/21.

Accession Number: 20210727-5055.

Comments Due: 5 p.m. ET 8/17/21.

Docket Numbers: ER21-2515-000.

Applicants: Dominion Energy South Carolina, Inc.

Description: Compliance filing: Order 676-I Compliance filing to be effective 12/31/9998.

Filed Date: 7/27/21.

Accession Number: 20210727-5062.

Comments Due: 5 p.m. ET 8/17/21.

Docket Numbers: ER21-2516-000.

Applicants: Tucson Electric Power Company.

Description: Compliance filing: Order No. 676-I Compliance Filing to be effective 10/27/2021.

Filed Date: 7/27/21.

Accession Number: 20210727-5063.

Comments Due: 5 p.m. ET 8/17/21.

Docket Numbers: ER21-2517-000.

Applicants: UNS Electric, Inc.

Description: Compliance filing: Order No. 676-I Compliance Filing to be effective 10/27/2021.

Filed Date: 7/27/21.

Accession Number: 20210727-5064.

Comments Due: 5 p.m. ET 8/17/21.

Docket Numbers: ER21-2518-000.

Applicants: PJM Interconnection, L.L.C., Virginia Electric and Power Company.

Description: § 205(d) Rate Filing: Dominion submits revisions to OATT, Att. H-16A re: Unfunded Reserves to be effective 1/1/2021.

Filed Date: 7/27/21.

Accession Number: 20210727-5068.

Comments Due: 5 p.m. ET 8/17/21.

Docket Numbers: ER21-2519-000.

Applicants: Deseret Generation & Transmission Co-operative, Inc.

Description: Compliance filing: Order No. 676-I Compliance to be effective 12/31/9998.

Filed Date: 7/27/21.

Accession Number: 20210727-5070.

Comments Due: 5 p.m. ET 8/17/21.

Docket Numbers: ER21-2520-000.

Applicants: MATL LLP.

Description: Compliance filing: Order 676-I Compliance Filing and Continued Waiver Request to be effective 12/31/9998.

Filed Date: 7/27/21.

Accession Number: 20210727-5078.

Comments Due: 5 p.m. ET 8/17/21.

Docket Numbers: ER21-2521-000.

Applicants: Broadlands Wind Farm LLC.

Description: Baseline eTariff Filing: Reactive Power Compensation Filing to be effective 9/25/2021.

Filed Date: 7/27/21.

Accession Number: 20210727-5080.

Comments Due: 5 p.m. ET 8/17/21.

Docket Numbers: ER21-2522-000.

Applicants: American Electric Power Service Corporation, PJM Interconnection, L.L.C.

Description: § 205(d) Rate Filing: AEP submits Update to Attachment 1 of ILDSA, SA No. 1336 7/27 to be effective 7/1/2021.

Filed Date: 7/27/21.

Accession Number: 20210727-5092.

Comments Due: 5 p.m. ET 8/17/21.

Docket Numbers: ER21-2523-000.

Applicants: Gulf Power Company.

Description: Compliance filing: Order No. 676-I Compliance Filing to be effective 12/31/9998.

Filed Date: 7/27/21.

Accession Number: 20210727-5094.

Comments Due: 5 p.m. ET 8/17/21.

Docket Numbers: ER21-2524-000.

Applicants: PJM Interconnection, L.L.C.

Description: Compliance filing: Compliance to Order No. 676-I in Docket No. RM05-5-027 to be effective 10/27/2021.

Filed Date: 7/27/21.

Accession Number: 20210727-5104.

Comments Due: 5 p.m. ET 8/17/21.

Docket Numbers: ER21-2525-000.

Applicants: Alabama Power Company.

Description: Compliance filing: OATT Attachment O Order No. 676-I Compliance Filing to be effective 12/31/9998.

Filed Date: 7/27/21.

Accession Number: 20210727-5114.

Comments Due: 5 p.m. ET 8/17/21.

Docket Numbers: ER21-2526-000.

Applicants: New York Independent System Operator, Inc.

Description: Compliance filing: NOPR compliance filing of tariff revisions comply with Order No. 676 NAESB WEQ to be effective 10/27/2021.

Filed Date: 7/27/21.

Accession Number: 20210727-5124.

Comments Due: 5 p.m. ET 8/17/21.

Docket Numbers: ER21-2527-000.

Applicants: Puget Sound Energy, Inc.

Description: Compliance filing: Order No. 676-I Notice of Compliance to be effective N/A.

Filed Date: 7/27/21.

Accession Number: 20210727-5127.

Comments Due: 5 p.m. ET 8/17/21.

Docket Numbers: ER21-2528-000.

Applicants: PacifiCorp.

Description: Tariff Cancellation: Termination of Provo City Operating Agreement to be effective 9/26/2021.

Filed Date: 7/27/21.

Accession Number: 20210727-5128.

Comments Due: 5 p.m. ET 8/17/21.

Docket Numbers: ER21-2529-000.

Applicants: ISO New England Inc., Eversource Energy Service Company (as agent, Green Mountain Power Corporation, New England Power Company, Vermont Transco LLC.

Description: Compliance filing: PTO AC Revisions to Schedules 20A and 21 to Comply with Order No. 676-I to be effective 12/31/9998.

Filed Date: 7/27/21.

Accession Number: 20210727-5134.

Comments Due: 5 p.m. ET 8/17/21.

Docket Numbers: ER21-2530-000.

Applicants: California Independent System Operator Corporation.

Description: § 205(d) Rate Filing: 2021-07-27 Supercluster Tariff Amendment Filing to be effective 9/26/2021.

Filed Date: 7/27/21.

Accession Number: 20210727-5144.

Comments Due: 5 p.m. ET 8/17/21.

Take notice that the Commission received the following public utility holding company filings:

Docket Numbers: PH21-15-000.

Applicants: Consumers Energy Company.

Description: CMS Energy Corporation submits FERC-65B Notice of Material Change in Fact to Waiver Notification.

Filed Date: 7/23/21.

Accession Number: 20210723-5215.

Comments Due: 5 p.m. ET 8/13/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 27, 2021.
Debbie-Anne A. Reese,
Deputy Secretary.

[FR Doc. 2021-16416 Filed 7-30-21; 8:45 am]

BILLING CODE 6717-01-P